DEPARTMENT OF HEALTH AND HUMAN SERVICES

National Institutes of Health

Center for Scientific Review Amended Notice of Meeting

Notice is hereby given of a change in the meeting of the Center for Scientific Review Special Emphasis Panel, Endocrinology, Metabolism, Nutrition and Reproductive Sciences Study Section, March 19, 2020, 8:00 a.m. to March 19, 2020, 1:00 p.m., at the Washington Marriott Georgetown, 1221 22nd Street, Washington, DC which was published in the Federal Register on February 25, 2020, 85 FR 10707.

The meeting location is being changed to National Institutes of Health, 6701 Rockledge Drive, Bethesda, MD 20892. The format is being changed to a Video Assisted Meeting. Time and date remain the same. The meeting is closed to the public.

Dated: March 11, 2020.
Miguelina Perez,
Program Analyst, Office of Federal Advisory Committee Policy.

[FR Doc. 2020-05408 Filed 3-16-20; 8:45 am]

BILLING CODE 4140-01-P